DEPARTMENT OF COMMERCE

International Trade Administration

Mission Statement

AGENCY: Department of Commerce, ITA.

ACTION: Notice.

Mission Statement

Secretarial Indonesia Clean Energy Business Development Mission May 23-25, 2010.

Mission Description

U.S. Secretary of Commerce Gary Locke will lead a senior-level U.S. business development mission to Jakarta, Indonesia May 23-25, 2010 to discuss market development policies and promote U.S. exports in a broad range of clean energy technologies, including the geothermal, biomass, hydropower, wind, solar, and energy efficiency sectors.

The mission will focus on helping U.S. companies already doing business in Indonesia to increase their current level of exports and business interests, as well as, U.S. companies that are experienced exporters enter Indonesia for the first time in support of creating green jobs in the United States. Participating firms will gain market information, make business and government contacts, solidify business strategies, and/or advance specific projects. In each of these important sectors, participating U.S. companies will meet with prescreened partners, agents, distributors, representatives, and licensees. The agenda will also include meetings with high-level national and local government officials, networking opportunities, country briefings, and seminars.

The delegation will be comprised of approximately 10-15 U.S. firms representing a cross-section of U.S. clean energy industries. The mission will also be open to representatives of U.S. trade associations in the targeted industries with commercial interest in Indonesia.

Representatives of the U.S. Trade and Development Agency (USTDA) and the Export-Import Bank of the United States (Ex-Im) will be invited to participate to provide information and counseling on their programs, as they relate to the Indonesian market.

Commercial Setting

Indonesia's 47 year legacy as the Organization of the Petroleum Exporting Countries' (OPEC) sole Asian member was eclipsed as the country became a net importer and exited OPEC. Today, liquid natural gas (LNG), thermal coal, and palm oil exports for bio fuel, dominate energy exports. Sound fiscal and monetary policies, strong domestic consumption, and diversified exports have contributed to the overall economic growth of Indonesia, making it one of the world's fastest growing economies in 2009. Energy needs have far exceeded supply causing the country to embark on multiple initiatives to regain energy balance, including a mandate of 15% renewables by 2025, that positions this mission perfectly for the U.S. to emphasize the importance of policy and competitive trade practices to shape the development of this high potential market.

In 2004, Indonesia's government announced a “Crash Program” to produce 20,000 MW of additional energy to support economic growth. Phase I of the program was confined to coal-fired electricity plants primarily sourced from China. Phase II of the program includes public sector guarantees for “off take” power purchase agreements by the state-owned utility and preferences for renewable energy production sources such as geothermal—a major opportunity for U.S. firms who are competitive in the sector. Beyond the Crash Program, the Indonesian government expects a 56% increase in overall energy investments by 2014. Investment estimates include both public and private funds, which will be targeted at increasing the supply of electricity in urban areas, while also meeting the country's rural electrification needs. As a public service goal, the government of Indonesia intends to provide electricity to 90% of the country by 2010.

Opportunities for clean energy exports from the United States are driven in large part by the Indonesian Government's mandate that by 2025, 15% of the nation's electricity should come from renewable energy sources—5% from geothermal sources, 5% from biomass, and 5% from other renewables. To accomplish this goal, Indonesia will likely need to add 6.7 GW of new renewable energy production by 2025.

Though Indonesia's renewable energy industry offers potential growth, barriers still exist that prevent U.S. companies from accessing the market and competing with domestic firms. The pricing regime for renewable energy, the “Negative Investment List” restricting foreign investment in small power production facilities that produce less than 10 MW, the lack of transparency in the tendering process, and subsidies for fossil fuel production all forestall the development of cleaner energy resources.

Despite the challenges, Indonesia is open to partnering with U.S. clean energy firms and with key U.S. technology and services providers. Indonesia's strategic setting in Asia, and its emerging domestic market and resources offer significant opportunities for the U.S. clean energy industry. Indonesia is home to 40% of the world's known geothermal resources and provides additional opportunities in solar, biomass, “clean coal” technology such as gasification or wet coal enhancement, and energy efficiency technologies.

Today, renewable energy currently accounts for a small, but growing portion of Indonesia's electricity portfolio. Most renewable energy comes from the hydropower and geothermal industries, but growth in other renewable energy industries—particularly biomass—is likely given the country's significant resource potential and its desire to invest in cutting-edge clean energy technologies.

Mission Goals

This Business Development Mission to Indonesia will demonstrate the United States commitment to a sustained economic partnership with Indonesia. It will build on recent commercial diplomacy and policy development in Indonesia focused on clean energy, transportation, science and financing. The mission will combine Secretarial level policy dialogue and relationship development with business development for U.S. firms. The mission purpose is to support participants as they construct a firm foundation for future business in Indonesia and specifically aims to:

• Assist in identifying partners and strategies for U.S. companies to provide access to Indonesian markets for clean and efficient technologies that advance Indonesian goals to reduce greenhouse gas emissions.

• Position participant firms as clear and effective voices to promote policies and regulatory frameworks that boost demand for clean energy products/services and assure U.S. access and commercial success.

• Confirm USG support for activities of U.S. business in Indonesia and to provide access to senior government decision makers in the new Indonesian administration.

• Listen to the needs, suggestions and experience of individual participants so as to shape appropriate USG positions regarding Indonesia and U.S. business interests.

• Organize private and focused events with local business and association leaders capable of becoming partners and clients for U.S. firms as they develop their business in Indonesia.

• Assist development of competitive strategies and market access with high level information gathering from private and public-sector leaders.

Mission Scenario

During the Clean Energy Business Development Mission to Jakarta, Indonesia the participants will:

• Meet with high-level government officials.

• Meet with prescreened partners, agents, distributors, representatives and licensees.

• Meet with representatives of the Chambers of Commerce, industry and trade associations.

• Attend briefings conducted by Embassy officials on the economic and commercial climates.

Receptions and other business events will be organized to provide mission participants with further opportunities to speak with local business and government representatives, as well as U.S. business executives living and working in the region.

Proposed Mission Timetable

Jakarta

Sunday May 23

• Arrive in Jakarta.

• Economic/Market Briefing by U.S. Government Officials.

• Welcome Dinner.

Monday May 24

• Meetings with Indonesian Government Officials.

• Business Event/Briefing with Local Industry Representatives.

• Individual Company Appointments.

• Reception Hosted by U.S. Ambassador.

Tuesday May 25

• Business Event/Briefing with Local Industry Representatives.

• Individual Company Appointments.

• Mission concludes—Depart Jakarta.

Participation Requirements

All parties interested in participating in the Indonesia Clean Energy Business Development Mission must complete and submit an application package for consideration by the Department of Commerce. All applicants will be evaluated on their ability to meet certain conditions and best satisfy the selection criteria as outlined below. Approximately 10-15 companies will be selected from the applicant pool to participate in the mission.

Fees and Expenses: After a company has been selected to participate in the mission, a payment to the Department of Commerce in the form of a participation fee is required. The participation fee will be $2,800 for large firms and $1,900 for a small or medium-sized enterprise (SME), which includes one principal representative.¹ The fee for each additional firm representative (large firm or SME) is $900. Expenses for travel, lodging, some meals, and incidentals will be the responsibility of each mission participant.

¹ An SME is defined as a firm with 500 or fewer employees or that otherwise qualifies as a small business under SBA regulations (see http://www.sba.gov/services/contractingopportunities/sizestandardstopics/index.html). Parent companies, affiliates, and subsidiaries will be considered when determining business size. The dual pricing schedule reflects the Commercial Service's user fee schedule that became effective May 1, 2008 (see http://www.export.gov/newsletter/march2008/initiatives.html for additional information).

Conditions for Participation: An applicant must submit a completed and signed mission application and supplemental application materials, including adequate information on the company's products and/or services, primary market objectives, and goals for participation. If the Office of Business Liaison receives an incomplete application, the Department of Commerce may either: reject the application, request additional information/clarification, or take the lack of information into account when evaluating the applications.

Each applicant must also:

• Certify that the products and services it seeks to export through the mission are either produced in the United States, or, if not, marketed under the name of a U.S. firm and have at least fifty-one percent U.S. content. In cases where the U.S. content does not exceed fifty percent, especially where the applicant intends to pursue investment and major project opportunities, the following factors, often associated with U.S. ownership, may be considered in determining whether the applicant's participation in the trade mission is in the U.S. national interest:

• U.S. materials and equipment content;

• U.S. labor content;

• Repatriation of profits to the U.S. economy; and/or

• Potential for follow-on business that would benefit the U.S. economy;

• Certify that the export of the products and services that it wishes to export through the mission would be in compliance with U.S. export controls and regulations;

• Certify that it has identified to the Department of Commerce for its evaluation any business pending before the Department of Commerce that may present the appearance of a conflict of interest;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

Selection Criteria for Participation

Selection will be based on the following criteria in decreasing order of importance:

• Demonstrated export experience in Indonesia and/or other foreign markets;

• Suitability of a company's products or services to the Indonesian market and likelihood of a participating company's increased exports to or business interests in Indonesia as a result of this mission;

• Ability of participant to clearly and effectively promote policies and regulatory frameworks that support U.S. access and commercial success;

• Current or pending major project participation; and

• Rank/seniority of the designated company representative.

Additional factors, such as diversity of company size, type, location, demographics, and traditional under-representation in business, may also be considered during the review process. Referrals from political organizations and any documents, including the application, containing references to partisan political activities (including political contributions) will be removed from an applicant's submission and not considered during the selection process.

Timeframe for Recruitment and Applications

Mission recruitment will be conducted in an open and public manner, including publication in the Federal Register, posting on the Commerce Department trade mission calendar (http://www.ita.doc.gov/doctm/tmcal.html) and other Internet web sites, press releases to general and trade media, direct mail, broadcast fax, notices by industry trade associations and other multiplier groups, and publicity at industry meetings, symposia, conferences, and trade shows. The Commerce Department's Office of Business Liaison and the International Trade Administration will explore and welcome outreach assistance from other interested organizations, including other U.S. Government agencies.

Recruitment for this mission will begin immediately upon approval. Applications can be completed on-line at the Indonesia Clean Energy Business Development Mission Web site at http://www.trade.gov/CleanEnergyMission or can be obtained by contacting the U.S. Department of Commerce Office of Business Liaison (202-482-1360 or CleanEnergyMission@doc.gov). The application deadline is Friday, February 26, 2010. Completed applications should be submitted to the Office of Business Liaison. Applications received after Friday, February 26, 2010 will be considered only if space and scheduling constraints permit.

Contacts

The Office of Business Liaison, 1401 Constitution Avenue, NW., Room 5062, Washington, DC 20230, Tel: 202-482-1360, Fax: 202-482-4054, E-mail: CleanEnergyMission@doc.gov.

Sean Timmins,
Global Trade Programs, Commercial Service Trade Missions Program.

[FR Doc. 2010-2492 Filed 2-5-10; 8:45 am]

BILLING CODE P